FEDERAL RESERVE SYSTEM

Notices of Proposals to Engage in Permissible Nonbanking Activities or to Acquire Companies that are Engaged in Permissible Nonbanking Activities; Correction

This notice corrects a notice (FR Doc. 03-30951) published on page 70015 of the issue for Tuesday, December 16, 2003.

Under the Federal Reserve Bank of Richmond heading, the entry for Southern Financial Bancorp, Inc., Warrenton, Virginia, is revised to read as follows:

A. Federal Reserve Bank of Richmond (A. Linwood Gill, III, Vice President) 701 East Byrd Street, Richmond, Virginia 23261-4528:

1. Southern Financial Bancorp., Inc., Warrenton, Virginia; to acquire 100 percent of the voting shares of Essex Bancorp, Inc., Norfolk, Virginia, and thereby indirectly acquire Essex Savings Bank, F.S.B., Norfolk, Virginia, and thereby engage in operating a savings association, pursuant to section 225.28(b)(4)(ii) of Regulation Y.

In connection with this application, Applicant also has applied to acquire 24.9 percent of the voting shares of LoanCare Servicing Center, Inc., Norfolk, Virginia, and thereby engage in extending credit and servicing loans, pursuant to section 225.28(b)(1) of Regulation Y, and in collection agency services, pursuant to section 225.28(b)(2)(iv) of Regulation Y.

Comments on this application must be received by January 9, 2004.

Board of Governors of the Federal Reserve System, December 22, 2003.
Jennifer J. Johnson,
Secretary of the Board.

[FR Doc. 03-31996 Filed 12-30-03; 8:45 am]

BILLING CODE 6210-01-S